DEPARTMENT OF THE INTERIOR

National Park Service

[N6694; NPS-WASO-NAGPRA-NPS0041434; PPWOCRADN0-PCU00RP14.R50000]

Notice of Inventory Completion: University of Michigan, Ann Arbor, MI

AGENCY: National Park Service, Interior.

ACTION: Notice.

SUMMARY: In accordance with the Native American Graves Protection and Repatriation Act (NAGPRA), the University of Michigan has completed an inventory of human remains (hereinafter referred to as “Ancestral remains” or “Ancestors”) and has determined that there is a cultural affiliation between the Ancestral remains and Indian Tribes or Native Hawaiian organizations in this notice.

DATES: Repatriation of the Ancestral remains in this notice may occur on or after January 16, 2026.

ADDRESSES: Send written requests for repatriation of the Ancestral remains in this notice to Dr. Ben Secunda, University of Michigan, Office of the Vice President for Research, Suite G269, Lane Hall, Ann Arbor, MI 48109-1274, email bsecunda@umich.edu.

SUPPLEMENTARY INFORMATION: This notice is published as part of the National Park Service's administrative responsibilities under NAGPRA. The determinations in this notice are the sole responsibility of the University of Michigan, and additional information on the determinations in this notice, including the results of consultation, can be found in its inventory or related records. The National Park Service is not responsible for the determinations in this notice.

Abstract of Information Available

Ancestral remains representing, at least, two individuals have been identified. On an unknown date prior to 1951, the Ancestors were removed from an unspecified location on the shore of Lake Champlain west of Orwell Village in Vermont. W.A. Dewey donated the Ancestral remains to the U-M Museum of Anthropological Archaeology (UMMAA). The year of acquisition is uncertain, but the sequence of UMMAA's accession records may suggest the donation was made in the 1920s. No time period has been determined for the burial. There are no associated funerary objects present. Although early records indicated the presence of animal bone fragments, no animal bone fragments have been located among the UMMAA's holdings, and it is believed that this may have been a mis-notation of Ancestral remains. Consultation occurred with representatives of the Stockbridge Munsee Community, Wisconsin; as well as the W8banaki First Nation of Wôlinak and Odanak, Canada.

The University of Michigan has no record of, nor do its officials have any knowledge of, any treatment of the Ancestors with pesticides, preservatives, or other substances that represent a potential hazard to the collection(s) or to persons handling the collection(s).

Cultural Affiliation

Based on the information available and the results of consultation, cultural affiliation is reasonably identified by the geographical location or acquisition history of the Ancestral remains described in this notice.

Determinations

The University of Michigan has determined that:

• The Ancestral remains described in this notice represent the physical remains of two individuals of Native American ancestry.

• There is a connection between the Ancestral remains described in this notice and the Stockbridge Munsee Community, Wisconsin.

Requests for Repatriation

Written requests for repatriation of the Ancestral remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the Ancestral remains described in this notice to a requestor may occur on or after January 16, 2026. If competing requests for repatriation are received, the University of Michigan must determine the most appropriate requestor prior to repatriation. Requests for joint repatriation of the Ancestral remains are considered a single request and not competing requests. The University of Michigan is responsible for sending a copy of this notice to the Indian Tribes and Native Hawaiian organizations identified in this notice and any other consulting parties.

Authority: Native American Graves Protection and Repatriation Act, 25 U.S.C. 3003, and the implementing regulations, 43 CFR 10.10.

Dated: December 2, 2025.
Melanie O'Brien,
Manager, National NAGPRA Program.

[FR Doc. 2025-23048 Filed 12-16-25; 8:45 am]

BILLING CODE 4312-52-P